ENVIRONMENTAL PROTECTION AGENCY

[FRL-7270-1]

Agency Information Collection Activities: Submission for OMB Review; Comment Request; NSPS for Calciners and Dryers at Minerals Industries

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Calciners and Dryers in Mineral Industries (40 CFR part 60, subpart UUU), OMB Control Number 2060-0251, expiration date August 31, 2002. The ICR describes the nature of the information collection and its expected burden and cost; where appropriate, it includes the actual data collection instrument.

DATES: Comments must be submitted on or before September 30, 2002.

ADDRESSES: Send comments, referencing EPA ICR No. 0746.05 and OMB Control No. 2060-0251, to the following addresses: Susan Auby, U.S. Environmental Protection Agency, Collection Strategies Division (Mail Code 2822T), 1200 Pennsylvania Avenue, NW., Washington, DC 20406-0001; and the Office of Information and Regulatory Affairs, Office of Management and Budget (OMB), Attention: Desk Officer for EPA, 725 17th Street, NW., Washington, DC 20503.

FOR FURTHER INFORMATION CONTACT: For a copy of the ICR, contact Susan Auby at EPA by phone at (202) 566-1672, by email at auby.susan@epa.gov, or download off the Internet at http://www.epa.gov/icr and refer to EPA ICR Number 0746.05. For technical questions about the ICR, contact Gregory Fried, Air, Hazardous Waste and Toxics Branch, EPA, by phone (202) 564-7016, or by email at fried.gregory@epa.gov.

SUPPLEMENTARY INFORMATION: Title: NSPS for Calciners and Dryers in Mineral Industries (40 CFR part 60, subpart UUU); OMB Control Number 2060-0251; EPA ICR Number 0746.05; expiration date August 31, 2002.

Abstract: The New Source Performance Standard (NSPS) for Calciners and Dryers in Mineral apply to new, modified and reconstructed calciners and dryers at mineral processing plants that process or produce any of the following minerals and their concentrates or any mixture of which the majority is any of the following minerals or a combination of these minerals: Alumina, ball clay, bentonite, diatomite, feldspar, fire clay, fuller's earth, gypsum, industrial sand, kaolin, lightweight aggregate, magnesium compounds, perlite, roofing granules, talc, titanium dioxide, and vermiculite. Particulate matter is the pollutant regulated under this subpart.

There are several exceptions to applicability to this standard. Feed and product conveyors are not considered part of the affected facility. Facilities subject to NSPS subpart LL, Metallic Mineral Processing Plants are not subject to this standard. There are additional processes and process units at mineral processing plants listed at 40 CFR 60.730(b) which are not subject to the provisions of this subpart.

Owners or operators of the affected facilities subject to this standard must make one-time-only reports including notification of startup, scheduling and results of the initial performance test, notification of any physical or operational change to an existing facility which may increase the regulated pollutant emission rate, and notification of the demonstration of the continuous monitoring system (CMS). Owners or operators are also required to maintain records of the occurrence and duration of any startup, shut down, or malfunction in the operation of an affected facility, or any period during which the monitoring system is inoperative. Performance tests are needed as these are the Agency's records of a source's initial capability to comply with emissions standards and note the operating conditions under which compliance was achieved. These notifications, reports and records are required, in general, of all sources subject to NSPS.

The monitoring requirements for this NSPS are outlined in 40 CFR 60.734. They are dependant on the types of dryers or calciners used at the facility. Specific calciners and dryers are required to install, calibrate, maintain, and operate a continuous monitoring system. Semiannual reports of excess emissions are required.

This information is being collected to assure compliance with 40 CFR part 60, subpart UUU. Any owner or operator subject to the provisions of this part will maintain a file of these measurements, and retain the file for at least two years following the date of such measurements, as specified in 40 CFR 60.735. All reports are sent to the delegated State or local authority. In the event that there is no such delegated authority, the reports are sent directly to the EPA Regional Office.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001. No comments were received.

Burden Statement: The annual public reporting and record keeping burden for this collection of information is estimated to average 19 hours per response. Burden means the total time, effort, or financial resources expended by persons to: generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Calcaneus and dryers at mineral processing plants.

Estimated Number of Responses: 165.

Frequency of Response: Initial and semiannual.

Estimated Total Annual Hour Burden: 6,506 hours.

Estimated Total Annualized Capital and O&M Burden: $115,250.

Send comments on the Agency's need for this information, the accuracy of the provided burden estimates, and any suggested methods for minimizing respondent burden, including through the use of automated collection techniques to the following addresses. Please refer to EPA ICR Number 0746.05 and OMB Control Number 2060-0251 in any correspondence.

Dated: August 21, 2002.
Oscar Morales,
Director, Collection Strategies Division.

[FR Doc. 02-22231 Filed 8-29-02; 8:45 am]

BILLING CODE 6560-50-P